DEPARTMENT OF COMMERCE

International Trade Administration

Developing the Administration's Approach To Supporting Economic Recovery in Venezuela

AGENCY: International Trade Administration, U.S. Department of Commerce.

ACTION: Notice; request for public comments.

SUMMARY: On behalf of the U.S. Administration, the International Trade Administration (ITA) is requesting comments on ways the Administration can support economic recovery following leadership transition in Venezuela. This request supplements on-going outreach the Administration is conducting with the private sector intended to inform our engagement going forward.

DATES: Comments should be received by 11:59 p.m. Eastern Daylight Time on October 29, 2019.

ADDRESSES: Written comments may be submitted by email to SUPPORTVENEZUELA@trade.gov. Comments submitted by email should be machine readable and should not be copy protected. Written comments also may be submitted by mail to the International Trade Administration, U.S. Department of Commerce, 1401 Constitution Avenue NW, Room 32019, Attn: SUPPORTVENEZUELA REQUEST FOR COMMENTS, Washington, DC 20230.

FOR FURTHER INFORMATION CONTACT: SUPPORTVENEZUELA@trade.gov. Please address your written comments to Lynn Costa at 202-482-5027.

SUPPLEMENTARY INFORMATION: On January 23, 2019 the United States recognized Juan Guaido as the interim President of Venezuela and called on Nicolas Maduro to step aside in favor of a legitimate leader. The United States and more than fifty-three other countries have now recognized Juan Guaido as the Interim President of Venezuela.

On January 25, 2019, President Donald J. Trump issued Executive Order 13857, which laid out additional steps that the United States is taking to address the national emergency with respect to Venezuela. In that Executive Order, President Trump highlighted “actions by persons affiliated with the illegitimate Maduro regime, including human rights violations and abuses in response to anti-Maduro protests, arbitrary arrest and detention of anti-Maduro protestors, curtailment of press freedom, harassment of political opponents, and continued attempts to undermine the Interim President of Venezuela and undermine the National Assembly, the only legitimate branch of government duly elected by the Venezuelan people.”

On January 25, 2019 Secretary of State Michael R. Pompeo certified the authority of Venezuela's interim President Juan Guaido to receive and control certain property in accounts of the Government of Venezuela or Central Bank of Venezuela held by the Federal Reserve Bank of New York or any other U.S. insured banks, in accordance with Section 25B of the Federal Reserve Act. In order to facilitate the transition to a post-Maduro government in Venezuela, the Administration is considering steps it can take to assist Venezuela's economic recovery after the illegitimate Maduro regime has left Caracas, and we are seeking public input from policy experts, the business community, and others regarding steps this Administration should take.

Instructions for Commenters: This is a general solicitation of comments from the public. We invite comments on the issue presented by this RFC and on issues that are not specifically raised. Comments that contain references to specific court cases, studies, and/or research should include copies of the referenced materials along with the submitted comments. Commenters should include the name of the person or organization filing the comment, as well as a page number on each page of the submissions. All personal identifying information (for example, name or address) voluntarily submitted by the commenter may be publicly accessible. Do not submit confidential business information or otherwise sensitive or protected information.

Dates: October 9, 2019.
Anthony Diaz,
Program Analyst.

[FR Doc. 2019-22442 Filed 10-16-19; 11:15 am]

BILLING CODE 3510-DR-P